SECURITIES AND EXCHANGE COMMISSION

[Release No.: 34-93396]

Public Availability of the Securities and Exchange Commission's FY 2019 Service Contract Inventory

AGENCY: Securities and Exchange Commission.

ACTION: Notice.

In accordance with Section 743 of Division C of the Consolidated Appropriations Act of 2010 (Pub. L. 111-117), SEC is publishing this notice to advise the public of the availability of the FY2019 Service Contract Inventory (SCI) along with the FY2020 SCI Planned Analysis.

The SCI provides information on FY2019 actions above the simplified acquisition threshold for service contracts. The inventory organizes the information by function to show how SEC distributes contracted resources throughout the agency. The SEC developed the inventory per the guidance issued on January 17, 2017, by the Office of Management and Budget's Office of Federal Procurement Policy (OFPP). OFPP's guidance is available at https://www.whitehouse.gov/sites/whitehouse.gov/files/omb/memoranda/2017/service_contract_inventories.pdf.

The Service Contract Inventory Analysis for FY2019 provides information based on the FY 2019 Inventory. Please note that the SEC's FY 2019 Service Contract Inventory data is now included in government-wide inventory available on www.acquisition.gov. The government-wide inventory can be filtered to display the inventory data for the SEC. The SEC has posted the FY 2019 SCI Analysis and its FY 2020 plans for analyzing data on the SEC's homepage at http://www.sec.gov/about/secreports.shtml and http://www.sec.gov/open.

FOR FURTHER INFORMATION CONTACT: Direct questions regarding the service contract inventory to Vance Cathell, Director Office of Acquisitions 202.551.8385 or CathellV@sec.gov.

Dated: October 21, 2021.
Vanessa A. Countryman,
Secretary.

[FR Doc. 2021-23306 Filed 10-25-21; 8:45 am]

BILLING CODE 8011-01-P